ENVIRONMENTAL PROTECTION AGENCY

40 CFR Part 63

[EPA-HQ-OAR-2009-0027; FRL-9128-1]

RIN 2060-AO94

National Emission Standards for Hazardous Air Pollutants for Area Sources: Asphalt Processing and Asphalt Roofing Manufacturing; Technical Correction

AGENCY: Environmental Protection Agency (EPA).

ACTION: Final rule; technical correction.

SUMMARY: On December 2, 2009, EPA promulgated national emissions standards for the control of emissions of Hazardous Air Pollutants (HAP) from the asphalt processing and asphalt roofing manufacturing area source category (74 FR 63236). Following signature of this final rule, EPA discovered three inadvertent typographical errors in the numbering of paragraphs and is correcting those errors in this action.

DATES: This correction is effective on April 19, 2010.

FOR FURTHER INFORMATION CONTACT: Warren Johnson at (919) 541-5124.

SUPPLEMENTARY INFORMATION:

I. Summary of Amendments

We promulgated national emissions standards for the control of emissions of HAP from the asphalt processing and asphalt roofing manufacturing area source category on December 2, 2009 (40 CFR part 63, subpart AAAAAAA). Following signature of the final asphalt processing and asphalt roofing manufacturing area source standards in subpart AAAAAAA, we discovered three inadvertent typographical errors in the lettering of paragraphs in section 63.11563, entitled, “What are my Monitoring Requirements?” We are correcting those errors in this action. Also, in section 63.11564, entitled, “What are my Notification, Recordkeeping, and Reporting Requirements?” we are amending cross references to the paragraphs we are correcting in section 63.11563 to satisfy these cross references. A red line version of the corrected rule language is available in docket EPA-HQ-OAR-2009-0027. Table 1 of this preamble describes the five technical corrections to 40 CFR part 63, subpart AAAAAAA.

Table 1—Technical Corrections to 40 CFR Part 63, Subpart AAAAAAA, Sections 63.11563 and 63.11564
Technical correction | Reason
In section 63.11563, replace paragraph letter “(l)” with paragraph letter “(g)” | To have this paragraph follow paragraph 63.11563(f) in proper sequence, and to satisfy the cross reference in section 63.11563(c)(2)(iii).
In section 63.11563, replace paragraph letter “(m)” with paragraph letter “(h)” | To have this paragraph follow corrected paragraph (g) in proper sequence.
In section 63.11563, replace paragraph letter “(n)” with paragraph letter “(i)” | To have this paragraph follow corrected paragraph (h) in proper sequence.
In section 63.11564(c)(8), replace cross reference to section “63.11563(b) or (l)” with “63.11563(b) or (g)” | To satisfy the cross reference in section 63.11564(c)(8).
In section 63.11564(c)(9), replace cross reference to section “63.11563(m)” with “63.11563(h)” | To satisfy the cross reference in section 63.11564(c)(9).

Section 553 of the Administrative Procedure Act (APA), 5 U.S.C. 553(b)(3)(B), provides that, when an Agency for good cause finds that notice and public procedure are impracticable, unnecessary, or contrary to the public interest, the Agency may issue a rule without providing notice and an opportunity for public comment. We have determined that there is good cause for making this technical correction final without prior proposal and opportunity for comment because only simple typographical errors are being corrected that do not substantially change the Agency actions taken in the final rule. Thus, notice and public procedure are unnecessary. We find that this constitutes good cause under 5 U.S.C. 553(b)(3)(B). (See also the final sentence of section 307(d)(1) of the Clean Air Act (CAA), 42 U.S.C. 307(d)(1), indicating that the good cause provisions in subsection 553(b) of the APA continue to apply to this type of rulemaking under section 307(d) of the CAA.)

II. Statutory and Executive Order Reviews

Under Executive Order 12866, Regulatory Planning and Review (58 F.R. 51735, October 4, 1993), this action is not a “significant regulatory action” and is therefore not subject to review by the Office of Management and Budget. This action is not a “major rule” as defined by 5 U.S.C. 804(2). The technical corrections do not impose an information collection burden under the provisions of the Paperwork Reduction Act of 1995 (44 U.S.C. 3501 et seq.).

Because EPA has made a “good cause” finding that this action is not subject to notice and comment requirements under the APA or any other statute (see Section I of this preamble), it is not subject to the regulatory flexibility provisions of the Regulatory Flexibility Act [5 U.S.C. 601 et seq.], or to sections 202 and 205 of the Unfunded Mandates Reform Act of 1995 (UMRA) [Pub. L. 104-4]. In addition, this action does not significantly or uniquely affect small governments or impose a significant intergovernmental mandate, as described in sections 203 and 204 of the UMRA.

This technical correction does not have substantial direct effects on the States, or on the relationship between the national Government and the States, or on the distribution of power and responsibilities among the various levels of Government, as specified in Executive Order 13132, Federalism (64 FR 43255, August 10, 1999).

This action does not significantly or uniquely affect the communities of tribal governments, as specified by Executive Order 13175, Consultation and Coordination with Indian Tribal Governments (65 FR 67249, November 9, 2000). This correction also is not subject to Executive Order 13045, Protection of Children from Environmental Health and Safety Risks (62 FR 19885, April 23, 1997) because it is not economically significant.

This technical correction is not subject to Executive Order 13211, Actions Concerning Regulations That Significantly Affect Energy Supply, Distribution, or Use (66 FR 28355, May 22, 2001) because this action is not a significant regulatory action under Executive Order 12866.

This technical correction does not involve changes to the technical standards related to test methods or monitoring requirements; thus, the requirements of section 12(d) of the National Technology Transfer and Advancement Act of 1995 (15 U.S.C. 272) do not apply.

This technical correction also does not involve special consideration of environmental justice-related issues as required by Executive Order 12898, Federal Actions to Address Environmental Justice in Minority Populations and Low-Income Populations (59 FR 7629, February 16, 1994).

The Congressional Review Act (CRA), 5 U.S.C. 801 et seq., as added by the Small Business Regulatory Enforcement Fairness Act of 1996 (SBREFA), generally provides that before a rule may take effect, the Agency promulgating the rule must submit a rule report, which includes a copy of the rule, to each House of the Congress and to the Comptroller General of the U.S. Section 808 allows the issuing Agency to make a rule effective sooner than otherwise provided by the CRA if the Agency makes a good cause finding that notice and public procedure is impracticable, unnecessary, or contrary to the public interest. This determination must be supported by a brief statement. 5 U.S.C. 808(2). As stated previously, we have determined that there is good cause for making this technical correction final without prior proposal and opportunity for comment because only simple typographical errors are being corrected that do not substantially change the Agency actions taken in the final rule. Thus, notice and public procedure are unnecessary. EPA has therefore established an effective date of April 19, 2010. The EPA will submit a report containing this final action and other required information to the U.S. Senate, the U.S. House of Representatives, and the Comptroller General of the U.S. prior to publication of this action in the Federal Register. This action is not a “major rule” as defined by 5 U.S.C. 804(2). The final rule will be effective April 19, 2010.

List of Subjects in 40 CFR Part 63

Environmental protection, Air pollution control, Hazardous substances, Incorporation by reference, Reporting and recordkeeping requirements.

Dated: March 11, 2010.
Gina McCarthy,
Assistant Administrator, Office of Air and Radiation.

For the reasons stated in the preamble, title 40, chapter I, part 63 of the Code of Federal Regulations is amended as follows:

PART 63—[AMENDED]

1. The authority citation for part 63 continues to read as follows:

Authority: 42 U.S.C. 7401 et seq.

Subpart AAAAAAA-—[Amended]

§ 63.11563 [Amended]

2. Section 63.11563 is amended by redesignating paragraphs (l), (m) and (n) to become paragraphs (g), (h), and (i), respectively.

3. Section 63.11564 is amended by revising paragraphs (c)(8) and (c)(9) to read as follows:

§ 63.11564 What are my notification, recordkeeping, and reporting requirements?

* * * * *

(c) * * *

(8) A copy of the site-specific monitoring plan required under § 63.11563(b) or (g).

(9) A copy of the approved alternative monitoring plan required under § 63.11563(h), if applicable.

* * * * *

[FR Doc. 2010-5964 Filed 3-17-10; 8:45 am]

BILLING CODE 6560-50-P